FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—04/26/2004
20040744 | LGB Keystone LLC | Keystone Foods Holding Company, Inc | Executive Holdings LLC. Keystone Foods LLC.
20040762 | Calpine Power Income Fund | Basic American, Inc | Basic American, Inc.
20040763 | Nautic Partners V, L.P | Flavor & Fragrance Group Holdings, Inc | Flavor & Fragrance Group Holdings, Inc.
TRANSACTIONS GRANTED EARLY TERMINATION—04/28/2004
20040747 | Bank One Corporation | Marc Ladreit de Lacharriere | LBC S.A.
TRANSACTIONS GRANTED EARLY TERMINATION—04/29/2004
20040509 | Connors Bros. Income Fund | Centre Capital Investors III, L.P | Bumble Bee LLC.
TRANSACTIONS GRANTED EARLY TERMINATION—04/30/2004
20040759 | Thomas Cressey Fund VII, L.P | Web Clients, Inc | Web Clients, Inc.
20040765 | JP Morgan Chase & Co | Nathan Kirsh | Jetro JMDH Holdings, Inc.
20040767 | BSW Holdings, Inc | Electronic Data Systems Corporation | UGS PLM Solutions Inc.
20040770 | Roger Barnett | Yamanouchi Pharmaceutical Co., Ltd | INOBYS LLC. Shaklee Corporation.
20040771 | TelCove, Inc | Exelon Corporation | PECO Telcove.
20040773 | Hughes Supply, Inc | Karl B. McMillen, Jr | Todd Pipe & Supply—Hawthorne, Inc.
20040779 | Bain Capital Fund VI, L.P | Domino's Pizza, Inc | Domino's Pizza, Inc.
20040780 | Bain Capital VI Coinvestment Fund, L.P | Domino's Pizza, Inc | Domino's Pizza, Inc.
20040788 | Arsenal Capital Partners Qualified Purchaser Fund L.P | Millennium Chemicals, Inc | Millennium Specialty Chemicals Inc.
20040792 | SR. Teleperformance | Newco | Newco.
TRANSACTIONS GRANTED EARLY TERMINATION—04/30/2004
20040411 | L'Air Liquide SA | Messer Griesheim Group GmbH & Co. KGaA | Messer Griesheim GmbH.
TRANSACTIONS GRANTED EARLY TERMINATION—05/04/2004
20040787 | William Blair Capital Partners VII QP, L.P | Lauri E. Union Grantor Retained Trust | Union Corrugating Company.
TRANSACTIONS GRANTED EARLY TERMINATION—05/05/2004
20040728 | Kerry Group plc | J. Manheimer Inc | J. Manheimer Inc.
20040740 | Amgen Inc | Tularik Inc | Tularik Inc.
20040784 | Occum Acquisition Corp | Safeco Corporation | American States Life Insurance Company. Employee Benefits Consultants, Inc. First Safeco National Life Insurance Company of New York.
|  |  | Safeco Administrative Services, Inc. Safeco Asset Management Company. Safeco Assigned Benefits Service Company. Safeco Life Insurance Company.
|  |  | Safeco National Life Insurance Company. Safeco Securities, Inc. Safeco Services Corporation. Wisconsin Pension and Group Services, Inc.
20040797 | Pitney Bowes Inc | Group 1 Software, Inc | Group 1 Software, Inc.
TRANSACTIONS GRANTED EARLY TERMINATION—05/06/2004
20040713 | Informa Group plc | Taylor & Francis Group plc | Taylor & Francis Group plc.
20040758 | Headquarters Incorporated | Eldorado Stone Holdings Co, LP | Eldorado Stone Acquisition Co., LLC
20040834 | Mr. Kjell Inge Rokke | Kvaerner ASA | Kvaerner ASA.
TRANSACTIONS GRANTED EARLY TERMINATION—05/07/2004
20040764 | Calpine Corporation | General Electric Company | Cogen Holdings I LLC.
20040768 | Ainsworth Lumber Co. Ltd | Boise Cascade Corporation | Voyageur Panel Limited.
20040769 | Bristol-Myers Squibb Company | Mr. Pierre Fabre | Pierre Fabre Medicament S.A.
20040783 | Genstar Capital Partners III, L.P | Gregory Block | American Pacific Enterprises, LLC.
20040789 | United Technologies Corporation | Automated Logic Corporation | Automated Logic Corporation.
20040794 | Welsh, Carson, Anderson & Stowe IX, L.P. (WCAS IX) | U.S. Oncology Holdings, Inc | U.S. Oncology Holdings, Inc.
20040795 | Welsh, Carson, Anderson & Stowe IX, L.P | U.S. Oncology, Inc | U.S. Oncology, Inc.
20040800 | International Paper Company | Dennis Mehiel | Box USA Holdings, Inc.
20040803 | JAKKS Pacific, Inc | Play Along (Hong Kong) Ltd | Play Along (Hong Kong) Ltd.
20040806 | Kerr-McGee Corporation | Westport Resources Corporation | Westport Resources Corporation
20040808 | Sumner M. Redstone | Midway Games, Inc | Midway Games, Inc.
20040811 | Bruckmann, Rosser, Sherrill & Co. II, L.P | Prudential plc | LD Holdings, Inc.
20040812 | Ormat Industries Ltd | Constellation Energy Group Inc | CE Puna II, Inc. CE Puna I, Inc. CE Puna Limited Partnership. Puna Geothermal Venture.
20040814 | Dr. David V. Goeddel | Amgen Inc | Amgen Inc.
20040819 | SunGard Data Systems Inc | Joseph A. Savage, Jr | Open Software Solutions.
20040820 | SunGard Data Systems Inc | Hua “Frank” Luo | Open Software Solutions, Inc.
20040821 | Citigroup Inc | Sunoco, Inc | Sunoco, Inc. (R&M).
20040823 | Joseph M. & Marie H. Field | Michael S. Maurer | MyStar Communications Corporation.
20040824 | Joseph M. & Marie H. Field | Robert E. Schloss | MyStar Communications Corporation.
20040835 | CompuCredit Corporation | First American Management, Inc | FACA of Arkansas, LLC. First American Cash Advance of Alabama, LLC. First American Cash Advance of Colorado, LLC. First American Cash Advance of Florida, LLC.
|  |  | First American Cash Advance of Oklahoma, LLC. First American Cash Advance of South Carolina, LLC. First American Cash Advance of Tennessee, LLC. First American Financial Services, LLC. First American Franchising, LLC.
|  |  | First American Holding, LLC. Foresight Management Company, LLC. Union Management Company, LLC. United Services, Inc.
TRANSACTIONS GRANTED EARLY TERMINATION—05/11/2004
20040782 | ABRY Partners IV, L.P | Providence Equity Partners III L.P | Language Line Holdings, Inc.
20040807 | Albemarle Corporation | Akzo Nobel NV | Akzo Nobel Catalysts LLC.
20040815 | Teledyne Technologies Incorporated | Isco, Inc | Isco, Inc.
20040816 | Stephen L. LaFrance and Linda LaFrance | May’s Drug Stores, Inc | May's Drug Stores, Inc.
20040817 | Hub International Limited | Safeco Corporation | Talbot Financial Corporation.
20040822 | The Lubrizol Corporation | Noveon International, Inc. | Noveon International, Inc.
20040831 | Charterhouse Equity Partners IV, L.P | Washington & Congress Capital Partners, L.P | LogistiCare, Inc.
20040833 | Fair Isaac Corporation | London Bridge Software Holdings plc | London Bridge Software Holdings plc.
20040837 | MacDonald, Dettwiler and Associates Ltd | Marshall & Swift Holdings, LLC | Marshall & Swift/Boeckh Company (Canada) Marshall & Swift, L.P.
20040841 | TA IX L.P | CGW Southeast Partners III, L.P | Youth & Family Centered Services, Inc.
TRANSACTIONS GRANTED EARLY TERMINATION—05/12/2004
20040735 | JDS Uniphase Corp | E20 Communications, Inc | E20 Communications, Inc.
20040785 | Summit Venture VI-B, L.P | GCA Holdings, Inc | GCA Holdings, Inc.
20040786 | Summit Ventures VI-A, L.P | GCA Holdings, Inc | GCA Holdings, Inc.
20040793 | M&C International | GCA Holdings, Inc | GCA Holdings, Inc.
TRANSACTIONS GRANTED EARLY TERMINATION—05/14/2004
20040804 | Smiths Group plc | The Veritas Capital Fund LP | Trak Holding Corp.
20040839 | Molina Healthcare, Inc | Gerald W. Landgraf | Health Care Horizons, Inc.
20040842 | The Home Depot, Inc | Green Equity Investors III, L.P | White Cap Industries, Inc.
20040844 | Jarden Corporation | Bicycle Holding, Inc | Bicycle Holding, Inc.
20040846 | CCG Investment Fund, L.P | LHP Holding Corp | LHP Holding Corp.
20040847 | LHP Holding Corp | Leiner Health Products, Inc | Leiner Health Products, Inc.
20040853 | Cortec Group Fund III, L.P | Linsalata Capital Partners Fund III, L.P | Fasteners Holding Company.

FOR FURTHER INFORMATION CONTACT: Sandra M. Peay, contact Representative or Renee Hallman, Case Management Assistant, Federal Trade Commission, Premerger Notification Office, Bureau of Competition, Room H-303, Washington, DC 20580, (202) 326-3100.

By Direction of the Commission.
Donald S. Clark,
Secretary.

[FR Doc. 04-11630 Filed 5-21-04; 8:45 am]

BILLING CODE 6750-01-M